DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona:
Mohave (FEMA Docket No.: B-2117). | City of Lake Havasu City, (20-09-1801P). | The Honorable Cal S. Sheehy, Mayor, City of Lake Havasu City, 2330 McCulloch Boulevard North, Lake Havasu City, AZ 86403. | Development Services Department, 2330 McCulloch Boulevard North, Lake Havasu City, AZ 86403. | Jun. 3, 2021 | 040116
Mohave, (FEMA Docket No.: B-2117). | Unincorporated areas of Mohave County, (20-09-1801P). | The Honorable Buster Johnson, Chairman, Mohave County Board of Supervisors, 2001 College Drive, Suite 90, Lake Havasu City, AZ 86403. | Mohave County Flood Control District, 3250 East Kino Avenue, Kingman, AZ 86409. | Jun. 3, 2021 | 040058
Colorado:
El Paso, (FEMA Docket No.: B-2109). | City of Colorado Springs, (20-08-0548P). | The Honorable John Suthers, Mayor, City of Colorado Springs, 30 South Nevada Avenue, Suite 601, Colorado Springs, CO 80903. | Pikes Peak Regional Development Center, 2880 International Circle, Colorado Springs, CO 80910. | Jun. 1, 2021 | 080060
El Paso, (FEMA Docket No.: B-2109). | Unincorporated areas of El Paso County, (20-08-0548P). | The Honorable Mark Waller, Chairman, El Paso County Board of Commissioners, 200 South Cascade Avenue, Suite 100, Colorado Springs, CO 80903. | Pikes Peak Regional Development Center, 2880 International Circle, Colorado Springs, CO 80910. | Jun. 1, 2021 | 080059
El Paso, (FEMA Docket No.: B-2117). | Unincorporated areas of El Paso County, (20-08-0750P). | The Honorable Stan VanderWerf, Chairman, El Paso County Board of Commissioners, 200 South Cascade Avenue, Suite 100, Colorado Springs, CO 80903. | Pikes Peak Regional Development Center, 2880 International Circle, Colorado Springs, CO 80910. | Jun. 14, 2021 | 080059
Larimer, (FEMA Docket No.: B-2119). | Unincorporated areas of Larimer County, (20-08-0490P). | The Honorable John Kefalas, Chairman, Larimer County Board of Commissioners, 200 West Oak Street, Suite 2200, Fort Collins, CO 80521. | Larimer County Engineering Department, 200 West Oak Street, Fort Collins, CO 80521. | Jun. 9, 2021 | 080101
Weld, (FEMA Docket No.: B-2117). | Town of Severance, (20-08-0596P). | The Honorable Donald McLeod, Mayor, Town of Severance, 3 South Timber Ridge Parkway, Severance, CO 80550. | Town Hall, 3 South Timber Ridge Parkway, Severance, CO 80550. | Jun. 10, 2021 | 080317
Connecticut:
Hartford, (FEMA Docket No.: B-2117). | Town of Simsbury, (20-01-1155P). | Ms. Maria Capriola, Town of Simsbury Manager, 933 Hopmeadow Street, Simsbury, CT 06070. | Town Hall, 933 Hopmeadow Street, Simsbury, CT 06070. | Jun. 3, 2021 | 090035
New Haven, (FEMA Docket No.: B-2119). | Town of Branford, (21-01-0065P). | The Honorable James B. Cosgrove, First Selectman, Town of Branford Board of Selectmen, 1019 Main Street, Branford, CT 06405. | Engineering Department, 1019 Main Street, Branford, CT 06405. | May 27, 2021 | 090073
Florida:
Miami-Dade, (FEMA Docket No.: B-2117). | City of Sunny Isles Beach, (20-04-5872P). | The Honorable George “Bud” Scholl, Mayor, City of Sunny Isles Beach, 18070 Collins Avenue, Sunny Isles Beach, FL 33160. | Building Department, 18070 Collins Avenue, Sunny Isles Beach, FL 33160. | Jun. 1, 2021 | 120688
Monroe, (FEMA Docket No.: B-2117). | Unincorporated areas of Monroe County, (21-04-0609P). | The Honorable Michelle Coldiron, Mayor, Monroe County Board of Commissioners, 25 Ships Way, Big Pine Key, FL 33042. | Monroe County Building Department, 2798 Overseas Highway, Suite 300, Marathon, FL 33050. | Jun. 14, 2021 | 125129
Monroe, (FEMA Docket No.: B-2117). | Village of Islamorada, (21-04-0284P). | The Honorable Buddy Pinder, Mayor, Village of Islamorada, 86800 Overseas Highway, Islamorada, FL 33036. | Building Department, 86800 Overseas Highway, Islamorada, FL 33036. | May 27, 2021 | 120424
Orange, (FEMA Docket No.: B-2117). | City of Orlando, (20-04-5596P). | The Honorable Buddy W. Dyer, Mayor, City of Orlando, P.O. Box 4990, Orlando, FL 32802. | Public Works Department, Engineering Division, 400 South Orange Avenue, 8th Floor, Orlando, FL 32801. | May 18, 2021 | 120186
Polk, (FEMA Docket No.: B-2109). | Unincorporated areas of Polk County, (20-04-3375P). | The Honorable Bill Braswell, Chairman, Polk County Board of Commissioners, P.O. Box 9005, Bartow, FL 33831. | Polk County Land Development Division, 330 West Church Street, Bartow, FL 33830. | May 20, 2021 | 120261
Georgia: Columbia, (FEMA Docket No.: B-2117). | Unincorporated areas of Columbia County, (20-04-3795P). | The Honorable Douglas R. Duncan, Jr., Chairman, Columbia County Board of Commissioners, 630 Ronald Reagan Drive, Building B, Evans, GA 30809. | Columbia County Engineering Services Division, 630 Ronald Reagan Drive, Building A, Evans, GA 30809. | May 26, 2021 | 130059
Oklahoma: Rogers, (FEMA Docket No.: B-2119). | Unincorporated areas of Rogers County, (20-06-3071P). | The Honorable Dan DeLozier, Chairman, Rogers County Board of Commissioners, 200 South Lynn Riggs Boulevard, Claremore, OK 74017. | Rogers County Planning Commission, 200 South Lynn Riggs Boulevard, Claremore, OK 74017. | Jun. 14, 2021 | 405379
Pennsylvania:
Montgomery, (FEMA Docket No.: B-2117). | Township of Upper Dublin, (20-03-0912P). | Mr. Ira S. Tackel, President, Township of Upper Dublin Board of Commissioners, 801 Loch Alsh Avenue, Fort Washington, PA 19034. | Community Planning and Zoning Department, 801 Loch Alsh Avenue, Fort Washington, PA 19034. | May 24, 2021 | 420708
Montgomery, (FEMA Docket No.: B-2117). | Township of Whitemarsh, (20-03-0912P). | Ms. Laura Boyle-Nester, Chair, Township of Whitemarsh Board of Supervisors, 616 Germantown Pike, Lafayette Hill, PA 19444. | Township Hall, 616 Germantown Pike, Lafayette Hill, PA 19444. | May 24, 2021 | 420712
South Carolina:
Berkeley, (FEMA Docket No.: B-2117). | Town of Moncks Corner, (20-04-4527P). | The Honorable Michael Lockliear, Mayor, Town of Moncks Corner, 118 Carolina Avenue, Moncks Corner, SC 29461. | Town Hall, 118 Carolina Avenue, Moncks Corner, SC 29461. | Jun. 10, 2021 | 450031
Berkeley, (FEMA Docket No.: B-2117). | Unincorporated areas of Berkeley County, (20-04-4527P). | Mr. John Cribb, Berkeley County Supervisor, 1003 Highway 52, Moncks Corner, SC 29461. | Berkeley County Administration Building, 1003 Highway 52, Moncks Corner, SC 29461. | Jun. 10, 2021 | 450029
Charleston, (FEMA Docket No.: B-2117). | Unincorporated areas of Charleston County, (21-04-0473P). | The Honorable Teddie E. Pryor, Sr., Chairman, Charleston County Council, 2700 Crestline Drive, North Charleston, SC 29405. | Charleston County Building Inspections Department, 4045 Bridge View Drive, North Charleston, SC 29405. | Jun. 14, 2021 | 455413
Texas:
Bexar, (FEMA Docket No.: B-2125). | Unincorporated areas of Bexar County, (20-06-2261P). | The Honorable Nelson W. Wolff, Bexar County Judge, 101 West Nueva Street, 10th Floor, San Antonio, TX 78205. | Bexar County Public Works Department, 1948 Probandt Street, San Antonio, TX 78214. | Jun. 7, 2021 | 480035
Collin, (FEMA Docket No.: B-2119). | City of Plano, (20-06-3373P). | The Honorable Harry LaRosiliere, Mayor, City of Plano, 1520 K Avenue, Plano, TX 75074. | Engineering Department, 1520 K Avenue, Plano, TX 75074. | Jun. 14, 2021 | 480140
Collin, (FEMA Docket No.: B-2117). | City of Sachse, (20-06-2901P). | Ms. Gina Nash, City of Sachse Manager, 3815 Sachse Road, Building B, Sachse, TX 75048. | Engineering Department, 3815 Sachse Road, Building B, Sachse, TX 75048. | Jun. 4, 2021 | 480186
Collin, (FEMA Docket No.: B-2117). | City of Wylie, (20-06-2901P). | The Honorable Matthew Porter, Mayor, City of Wylie, 300 Country Club Road, Building 100, Wylie, TX 75098. | Engineering Department, 300 Country Club Road, Building 100, Wylie, TX 75098. | Jun. 4, 2021 | 480759
Collin and Denton, (FEMA Docket No.: B-2117). | Town of Prosper, (20-06-1821P). | The Honorable Ray Smith, Mayor, Town of Prosper, P.O. Box 307, Prosper, TX 75078. | Engineering Services Department, 250 West 1st Street, Prosper, TX 75078. | May 24, 2021 | 480141
Comal, (FEMA Docket No.: B-2117). | Unincorporated areas of Comal County, (20-06-1966P). | The Honorable Sherman Krause, Comal County Judge, 100 Main Plaza, New Braunfels, TX 78130. | Comal County Engineering Department, 195 David Jonas Drive, New Braunfels, TX 78132. | May 20, 2021 | 485463
Dallas, (FEMA Docket No.: B-2125). | City of Dallas, (20-06-2951P). | The Honorable Eric Johnson, Mayor, City of Dallas, 1500 Marilla Street, Suite 5EN, Dallas, TX 75201. | Floodplain Management Department, 320 East Jefferson Boulevard, Room 312, Dallas, TX 75203. | Jun. 7, 2021 | 480171
Denton, (FEMA Docket No.: B-2117). | Unincorporated areas of Denton County, (20-06-1821P). | The Honorable Andy Eads, Denton County Judge, 110 West Hickory Street, 2nd Floor, Denton, TX 76201. | Denton County Development Services Department, 3900 Morse Street, Denton, TX 76208. | May 24, 2021 | 480774
Harris, (FEMA Docket No.: B-2119). | Unincorporated areas of Harris County, (20-06-2933P). | The Honorable Lina Hidalgo, Harris County Judge, 1001 Preston Street, Suite 911, Houston, TX 77064. | Harris County Permit Office, 10555 Northwest Freeway, Suite 120, Houston, TX 77002. | May 17, 2021 | 480287
Lubbock, (FEMA Docket No.: B-2117). | City of Lubbock, (20-06-2140P). | The Honorable Dan Pope, Mayor, City of Lubbock, P.O. Box 2000, Lubbock, TX 79457. | Engineering Department, 1314 Avenue K, 7th Floor, Lubbock, TX 79401. | Jun. 10, 2021 | 480452
Lubbock, (FEMA Docket No.: B-2117). | Unincorporated areas of Lubbock County, (20-06-2140P). | The Honorable Curtis Parrish, Lubbock County Judge, 904 Broadway Street, Suite 101, Lubbock, TX 79401. | Lubbock County Public Works Department, 904 Broadway Street, Lubbock, TX 79401. | Jun. 10, 2021 | 480915
Tarrant, (FEMA Docket No.: B-2119). | City of Fort Worth, (20-06-3150P). | The Honorable Betsy Price, Mayor, City of Fort Worth, 200 Texas Street, Fort Worth, TX 76102. | Transportation and Public Works Department, Engineering Vault, 200 Texas Street, Fort Worth, TX 76102. | Jun. 14, 2021 | 480596
Utah:
Sanpete, (FEMA Docket No.: B-2119). | City of Ephraim, (20-08-0461P). | The Honorable John Scott, Mayor, City of Ephraim, 5 South Main Street, Ephraim, UT 84627. | City Hall, 5 South Main Street, Ephraim, UT 84627. | May 14, 2021 | 490112
Sanpete, (FEMA Docket No.: B-2119). | Unincorporated areas of Sanpete County, (20-08-0461P). | The Honorable Scott Bartholomew, Chairman, Sanpete County Commission, 160 North Main Street, Suite 101, Manti, UT 84642. | Sanpete County Zoning and Building Department, 160 North Main Street, Suite 203, Manti, UT 84642. | May 14, 2021 | 490111
Virginia: Loudoun, (FEMA Docket No.: B-2117). | Unincorporated areas of Loudoun County, (20-03-1253P). | Mr. Tim Hemstreet, Loudoun County Administrator, P.O. Box 7000, Leesburg, VA 20177. | Loudoun County Mapping and Geographic Information (GIS) Department, 1 Harrison Street Southeast, Leesburg, VA 20177. | Jun. 14, 2021 | 510090

[FR Doc. 2021-13838 Filed 6-28-21; 8:45 am]

BILLING CODE 9110-12-P